DEPARTMENT OF LABOR

Occupational Safety and Health Administration

[Docket No. ICR 1218-0069 (2005)]

Commercial Diving Operations; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in the Commercial Diving Operations Standard (29 CFR part 1910, subpart T).

DATES: Comments must be submitted by the following dates:

Hard copy: Your comments must be submitted (postmarked or received) by January 31, 2005.

Facsimile and electronic transmission: Your comments must be received by January 31, 2005.

ADDRESSES: You may submit comments, identified by OSHA Docket No. ICR-1218-0069 (2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, comments, submissions, and the ICR are available for inspection and copying at the OSHA Docket Office at the address above. You also may contact Theda Kenney at the address below to obtain a copy of the ICR. For additional information on submitting comments, please see the “Public Participation” heading in the SUPPLEMENTARY INFORMATION section of this document.

FOR FURTHER INFORMATION CONTACT: Theda Kenney, Directorate of Standards and Guidance, OSHA, Room N-3609, 200 Constitution Avenue, NW., Washington, DC 20210; telephone: (202) 693-2222.

SUPPLEMENTARY INFORMATION:

I. Public Participation—Submission of Comments on This Notice and Internet Access to Comments and Submission

You may submit comments and supporting materials in response to this notice by (1) hard copy, (2) FAX transmission (facsimile), or (3) electronically through the OSHA Web page. Because of security-related problems, a significant delay may occur in receiving comments by regular mail. Please contact the OSHA Docket Office at (202) 693-2350 (TTY (877) 889-5627)) for information about security procedures concerning the delivery of submissions by express delivery, hand delivery, and courier service.

All comments, submissions, and background documents are available for inspection and copying at the OSHA Docket Office at the above address. Comments and submissions posted on OSHA's Web page are available at http://www.OSHA.gov. Contact the OSHA Docket Office for information about materials not available through the OSHA Web page, and for assistance using the Web page to locate docket submissions.

Electronic copies of this Federal Register notice, as well as other relevant documents, are available on OSHA's Web page.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

Subpart T (“the Subpart”) contains a number of paperwork requirements. The following paragraphs describe these reuqirements; specify who uses them, and what purpose they serve.

§ 1910.401(b). Description of the requirement. Allows employers to deviate from the requirements of the Subpart to the extent necessary to prevent or minimize a situation that is likely to cause death, serious physical harm, or major environmental damage (but not situations in which purely economic or property damage is likely to occur). Employers must notify the OSHA Area Director within 48 hours of taking such action; this notification must describe the situation responsible for the deviation and the extent of the deviation from the requirements. On request of the Area Director, employers must submit this information is writing.

Use and purpose. Employers use this provision to respond to unexpected and sudden emergencies that could cause serious injury and death to their employees, or prevent major harm to the environment. Notification allows OSHA to determine that the situation was serious and unusual, required immediate action not specified by the Subpart, and that the response was appropriate to prevent serious injury and death to employees, or major harm to the environment.

§§ 1910.410(a)(3) and (a)(4). Description of the requirements. Paragraph (a)(3) requires employers to train all dive-team members in cardiopulmonary resuscitation and first aid (i.e., the American Red Cross standard couse or equivalent), while paragraph (a)(4) specifies that employers train dive-team members exposed to hyperbaric conditions, or who control exposures of other employees to such conditions, in diving-related physics and physiology.

Use and purpose. Ensures that dive-team members know how to render emergency first-aid to diving casualties, which improves treatment outcomes. Training dive-team members involved in hyperbaric operations in diving-related physics and physiology results in an understanding of how underwater barometric pressure affects the development of diving-related medical conditions such as decompression sickness (the “bends;” referred to hereafter as “DCS”) and air embolism, thereby enabling theme to prevent these conditions.

§§ 1910.420(a). Description of the requirement. Under paragraph (a), employers must develop and maintain a safe-practices manual and make it available to each dive-team member at the dive location. In addition, for each diving mode used at the dive location, the manual must contain: safety procedures and checklists for diving operations; assignments and responsibilities of the dive-team members; equipment procedures and checklists; and emergency procedures for fire, equipment failures, adverse environmental conditions, and medical illness and injury.

Use and purpose. The safe-practices manual ensures that dive-team members are familiar with the employer's safety and emergency procedures, the functions each member is to perform during diving operations conducted at the dive location, and how these procedures and functions relate to the requirements of the Subpart. This knowledge enables dive-team members to perform their diving-related tasks effectively and safely, thereby, reducing the risk of serious injury and death.

§ 1910.421(b). Description of the requirement. Under this provision, employers are to keep at the dive location a list of telephone or call numbers for the following emergency facilitates and services: An operational decompression chamber (when such a chamber is not at the dive location); accessible hospitals; available physicians and means of emergency transportation; and the nearest U.S. Coast Guard Rescue Coordination Center.

Use and purpose: This list of telephone and call numbers ensures that emergency facilities and services and available to provide prompt medical care for an injured diver.

§ 1910.421(f). Description of the requirement. Requires employers to brief dive-team members on the diving-related tasks they are to perform, safety procedures for the diving mode used at the dive location, any unusual hazards or environmental conditions likely to affect the safety of the diving operation, and any modifications to operating procedures necessitated by the specific diving operation. Before assigning diving-related tasks, employers must ask each dive-team member about their current state of physical fitness, and inform the member about the procedure for reporting physical problems or adverse physiological effects during and after the dive.

Use and purpose. This requirement updates the divers' knowledge of the diving operation, including new information regarding diving hazards and environmental conditions that may jeopardize their safety. The assessment of a diver's physical fitness to dive reduces the risk that they will experience medical problems while diving; information about the procedure used to report diving-related medical problems ensures that divers will obtain prompt treatment of these conditions, which will prevent the problems from becoming serious and life-threatening.

§ 1910.421(h). Description of the requirement. When the diving operation occurs in an area capable of supporting marine traffic and occurs from a surface other than a vessel, employers are to display a rigid replica of the international code flag “A” that is at least one meter in height so that it is visible from any direction; the employer must illuminate the flag during night diving operations.

Use and purpose. The flag warns transiting vessels that diving operations are underway and to avoid the diving location, thereby protecting divers from impacting with a vessel while they are underwater or swimming on the surface.

§ 1910.422(e). Description of the requirement. Employers must develop and maintain a depth-time profile for each diver that includes, as appropriate, any breathing gas changes or decompression.

Use and purpose. Informs the diver regarding the depth and time parameters of the dive, which serves as the basis for determining the decompression schedule necessary to avoid diving-related medical problems.

§§ 1910.423(b)(1)(ii) through (b)(2). Description of the requirements. Requires the employer to: Instruct each diver to report any physical symptoms or adverse physiological effects, including symptoms of DCS; advise each diver of the location of a decompression chamber that is ready for use; and alert each diver to the potential hazards of flying after diving. For any dive outside the no-decompression limits, deeper than 100 feet, or that uses mixed gas in the breathing mixture, the employer also must inform the diver to remain awake and in the vicinity of the decompression chamber that is at the dive location for at least one hour after a dive, or after any decompression or treatment associated with a dive.

Use and purpose. This information allows the diver to recognize diving-relating medical problems, receive prompt treatment for such problems at the available decompression chamber, and alerts them to a condition (i.e., flying) that increases the risk of DCS. For divers involved in dives that increase the risk of DCS (i.e., dives outside the no-decompression limits, deeper than 100 feet, or that used mixed gas in the breathing mixture), informing them to remain awake and near the decompression chamber for one hour after a dive, or after any decompression or treatment associated with a dive, enables them a receive prompt and effective treatment for DCS should it occur.

§ 1910.423(d). Description of the requirement. Paragraph (d)(1) specifies that employers are to record and maintain the following information for each diving operation: The names of dive-team members; date, time, and location; diving modes used; general description of the tasks performed; an estimate of the underwater and surface conditions; and the maximum depth and bottom time for each diver. In addition, for each dive outside the no-decompression limits, deeper than 100 feet, or that uses mixed gas in the breathing mixture, paragraph (d)(2) requires the employer to record and maintain the following information for each diver: Depth-time and breathing-gas profiles; decompression table designation (including any modifications); and elapsed time since the last pressure exposure when it is less than 24 hours or the repetitive dive designation. Under paragraph (d)(3), if the dive results in DCS symptoms, or the employer suspects that a diver has DCS, the employer must record and maintain a description of the DCS symptoms (including the depth and time of symptom onset) and the results of treatment.

Use and purpose: This information permits appropriate and effective treatment of a diver should DCS occur after a dive or should the diver have a relapse of DCS after initial treatment, thereby preventing the condition from resulting in a serious injury or death. Maintaining these records ensures that the information is available for use by: the party involved in treatment when the diver experiences late-onset DCS or a subsequent relapse after treatment; and the employer for assessing the DCS incident (see § 1910.423(e) below).

§ 1910.423(e). Description of the requirement. Requires employers to assess each DCS incident by: investigating and evaluating it based on the recorded information, consideration of the past performance of the decompression profile used, and the diver's individual susceptibility to DCS; taking appropriate corrective action to reduce the probability of a DCS recurrence; and, within 45 days of the DCS incident, preparing a written evaluation of this assessment, including any corrective action taken.

Use and purpose. A written assessment enables employers to identify salient variables in existing decompression procedures that may be responsible for the DCS incident, to document modifications of these variables that they believe will reduce the occurrence of DCS, and to evaluate the effectiveness of these modifications during subsequent diving operations. Systematic assessment of decompression procedures in this manner reduces the incidence of DCS, which improves the safety of decompression procedures used by employers and protects divers from the serious and deadly effects fo DCS.

§ 1910.430(a), (b)(4), (c)(1)(ii), (c)(3)(i), (f)(3)(ii), and (g)(2). Description of the requirements. Paragraph (a) contains a general requirement that employers must record by means of tagging or a logging system any work performed on equipment, including any modifications, repairs, tests, calibrations, or maintenance performed on the equipment. This record is to include a description of the work, the name or initials of the individual who performed the work, and the date they completed the work. Paragraphs (b)(4) and (c)(1)(iii) require employers to test two specific types of equipment, including, respectively: the output of air compressor systems used to supply breathing air to divers for air purity every six months by means of samples taken at the connection to the distribution system; and breathing-gas hoses at least annually at one and one-half times their working pressure. Under paragraph (c)(3)(i), employers must mark each umbilical (i.e., separate lines supplying air and communications to a diver, as well as a safety line, tied together in a bundle), beginning at the diver's end, in 10-foot increments for 100 feet, then in 50-foot increments. Paragraph (f)(3)(ii) mandates that employers regularly inspect and maintain mufflers located in intake and exhaust lines on decompression chambers. According to paragraph (g)(2), employers are to test depth gauges using dead-weigh testing, or calibrate the gauges against a master reference gauge; such testing or calibration is to occur every six months and when the employer finds a discrepancy larger than two percent of the full scale between any two equivalent gauges. Employers must make a record of the tests, calibrations, inspections, and maintenance performed on the equipment specified by these paragraphs in accordance with § 1910.430(a).

Use and purpose. The records required by paragraph (a) (and generated by work performed under paragraphs (b)(4), (c)(1)(ii), (f)(3)(ii), and (g)(2)) permit employers and employees to determine the operating condition of diving equipment before placing it in service. By using only equipment that these records demonstrate is in safe working order, employers and employees will prevent severe injury and death during diving operations. Additionally, marking umbilicals as required by paragraph (c)(3)(i) permits diving supervisors and the employees who are tending a diver to determine the diver's depth, which ensures that the diver undergoes proper decompression as specified by the depth-time profile of the dive; by undergoing proper decompression, the diver avoids DCS.

§§ 1910.440(a)(2) and (b). Description of the requirements. Under paragraph (a)(2) of this provision, employers must record any diving-related injuries and illnesses that result in a dive-team member remaining in hospital for at least 24 hours. This record is to describe the circumstances of the incident and the extent of any injuries or illnesses.

Paragraph (b) of this provision regulates the availability of the records required by the Subpart, including who has access to these records, the retention periods for various records, and in some cases, the final disposition of the records. Under paragraph (b)(1), employers must make any record required by the Subpart available, on request, for inspection and copying by an OSHA compliance officer or to a representative of the National Institute for Occupational Safety and Health (NIOSH). Paragraph (b)(2) specifies that employers are to provide employees, their designated representatives, and OSHA compliance officers with exposure and medical records generated under the Subpart in accordance with § 1910.1020 (“Access to employee exposure and medical records”); these records include safe-practices manuals, depth-time profiles, diving records, DCS incident assessments, and hospitalization records. This paragraph also mandates that employers make equipment inspection and testing records available to employees and their designated representative on request.

According to paragraph (b)(3), employers must retain these records for the following periods: Safe-practices manuals, current document only; depth-time profiles, until completing the diving record or the DCS incident assessment; diving records, one year, except five years when a DCS incident occurred during the dive; DCS incident assessments, five years; hospitalization records, five years; and equipment inspections and testing records (i.e., current tag or log entry), until the employer removes the equipment from service. Paragraphs (b)(4) and (b)(5) specify the requirements for disposing of these records. Under paragraph (b)(4), employers are to forward to NIOSH any record with an expired five-year retention period. Paragraph (b)(5) states that employers who cease to do business must transfer records without unexpired retention dates to the successor employer who will retain them for the required period; however, when employers cease to do business without a successor employer, they must transfer the records to NIOSH.

Use and purpose. The hospitalization records required under paragraph (a)(2) will assist employers and employees, and eventually NIOSH, in determining which depth-time diving profiles and associated decompression procedures are especially hazardous, thereby permitting employers to modify these procedures to prevent DCS and other medical problems. Regarding the record-availability requirements of paragraphs (b)(1) and (b)(2), OSHA compliance officers use these records as an efficient means of assessing employer compliance with the major requirements of the Subpart, while NIOSH may compile these records for research purposes. Employees and their designated representatives use the records to assess the safety of an employer's diving procedures, and to determine if equipment is in safe working order.

The record-retention periods specified by paragraph (b)(3) reinforce the requirements of paragraphs (b)(1) and (b)(2) by allowing an adequate period to inspect records for compliance purposes, to review them in determining if equipment is in safe working order, and to analyze them when assessing the safety of existing diving procedures or developing improved procedures. Sending the records to NIOSH as required by paragraph (b)(4) makes them available for research purposes (e.g., assessing the medical effects of decompression procedures); in addition, employers and employees will have continuous access to the records when they need them to evaluate the safety of diving procedures, identify the causes of latent health effects, or for other reasons. The requirements of paragraph (b)(5) ensure that a responsible party (i.e., a successor employer or NIOSH) will make the records available as mandated by paragraphs (b)(1) and (b)(2).

III. Special Issues for Comment

OSHA has a particular interest in comments on the following issues:

• Whether the proposed information collection requirements are necessary for the proper performance of the Agency's functions, including whether the information is useful;

• The accuracy of OSHA's estimate of the burden (time and costs) of the information-collection requirements, including the validity of the methodology and assumptions used;

• The quality, utility, clarity of the information collected; and

• Ways to minimize the burden on employers who must comply; for example, by using automated or other technological information collection and transmission techniques.

IV. Proposed Actions

OSHA proposes to extend the Office of Management and Budget's (OMB) approval of the collection of information (paperwork) requirements necessitated by the Commercial Diving Operations Standard, 29 CFR part 1910, subpart T. The Agency will include this summary in its request to OMB to extend the approval of these collections of information requirements.

Type of Review: Extension of currently approved information collection requirements.

Title: Commercial Diving Operations.

OMB Number: 1218-0069.

Affected Public: Business or other for-profits; not for profit organizations, Federal government; State, local or tribal government.

Number of Respondents: 3,000.

Frequency: On occasion, annually.

Average Time Per Response: Varies from 3 minutes (.05 hour) to replace the safe practices manual to 1 hour to develop a new manual.

Estimated Total Burden Hours: 205,397.

Estimated Cost (Operation and Maintenance): $0.

V. Authority and Signature

John L. Henshaw, Assistant Secretary of Labor for Occupational Safety and Health, directed the preparation of this notice. The authority for this notice is the Paperwork Reduction Act of 1995 (44 U.S.C. 3506 et seq.), and Secretary of Labor's Order No. 5-2002 (67 FR 65008).

Signed in Washington, DC, on November 23, 2004.
John L. Henshaw,
Assistant Secretary of Labor.

[FR Doc. 04-26403 Filed 11-29-04; 8:45 am]

BILLING CODE 4510-26-M